NATIONAL AERONAUTICS AND SPACE ADMINISTRATION

[Notice 02-083]

Notice of Prospective Patent License

AGENCY: National Aeronautics and Space Administration.

ACTION: Notice of prospective patent license.

SUMMARY: NASA hereby gives notice that TAO Systems of Integration, Inc., of Williamsburg, Virginia, has applied for an exclusive license to practice the invention described and claimed in U.S. Patent No. 4,936,146 (NASA Case Number 13952-2-SB), entitled “Method and Apparatus for Detecting Laminar Flow Separation and Reattachment,” which is assigned to the United States of America as represented by the Administrator of the National Aeronautics and Space Administration. Written objections to the prospective grant of a license should be sent to Langley Research Center. NASA has not yet made a determination to grant the requested license and may deny the requested license even if no objections are submitted within the comment period.

DATES: Responses to this notice must be received by July 23, 2002.

FOR FURTHER INFORMATION CONTACT: Helen M. Galus, Patent Attorney, Langley Research Center, Mail Stop 212, Hampton, VA 23681-2199; Telephone 757-864-3227; Fax (757) 864-9190.

Dated: July 1, 2002.
Robert M. Stephens,
Deputy General Counsel.

[FR Doc. 02-16964 Filed 7-5-02; 8:45 am]

BILLING CODE 7510-01-P